DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting via webinar.

SUMMARY: The Gulf of Mexico Fishery Management Council will hold a Post Council Meeting Briefing for the public via webinar.

DATES: The meeting will convene on Monday, April 18, 2016; starting at 6 p.m. EDT and ending no later than 9 p.m. EDT.

ADDRESSES: The meeting will take place via webinar at: https://attendee.gotowebinar.com/register/3457390497527000068.

Council address: Gulf of Mexico Fishery Management Council, 2203 N. Lois Avenue, Suite 1100, Tampa, FL 33607; telephone: (813) 348-1630.

FOR FURTHER INFORMATION CONTACT: Charlene Ponce, Public Information Officer, Gulf of Mexico Fishery Management Council; charlene.ponce@gulfcouncil.org, telephone: (813) 348-1630.

SUPPLEMENTARY INFORMATION: Click the link below to register for the webinar: https://attendee.gotowebinar.com/register/3457390497527000068. After registering, you will receive a confirmation email containing information about joining the webinar.

Agenda

1. Welcome and Introductions

2. Review of Council actions taken during the April, 2016 Council Meeting

3. Questions and Answers

4. Adjourn

Special Accommodations

This meeting is physically accessible to people with disabilities. Requests for sign language interpretation or other auxiliary aids should be directed to Kathy Pereira at the Gulf Council Office (see ADDRESSES), at least 5 working days prior to the meeting.

Dated: March 23, 2016.
Tracey L. Thompson,
Acting Deputy Director, Office of Sustainable Fisheries, National Marine Fisheries Service.

[FR Doc. 2016-06921 Filed 3-25-16; 8:45 am]

BILLING CODE 3510-22-P